DEPARTMENT OF COMMERCE

National Oceanic and Atmospheric Administration

RIN 0648-XA108

South Atlantic Fishery Management Council; Public Meetings

AGENCY: National Marine Fisheries Service (NMFS), National Oceanic and Atmospheric Administration, Commerce.

ACTION: Notice of public hearing and scoping meeting series.

SUMMARY: The South Atlantic Fishery Management Council (Council) will hold a series of public hearings regarding Regulatory Amendment 9 to the Snapper Grouper Fishery Management Plan (FMP) for the South Atlantic Region, a Comprehensive Annual Catch Limit (ACL) Amendment, and its Comprehensive Ecosystem-Based Amendment 2. The Council will also conduct scoping meetings regarding Amendments 21, 22, and 24 to the Snapper Grouper FMP and Amendment 5 to the Golden Crab Fishery Management Plan for the South Atlantic Region. See SUPPLEMENTARY INFORMATION.

DATES: The series of 6 public hearings and scoping meetings will be held January 24, 2011 through February 3, 2011. All scoping meetings will be open from 3 p.m. until 7 p.m. Council staff will be available for informal discussions and to answer questions. Members of the public will have an opportunity to go on record at any time during the meeting hours to record their comments on the public hearing topics and scoping issues for Council consideration. Local Council representatives will attend the meetings and take public comment. Written comments will be accepted from January 12, 2011 until 5 p.m. on February 14, 2011.

See SUPPLEMENTARY INFORMATION.

ADDRESSES: Written comments should be sent to Bob Mahood, Executive Director, South Atlantic Fishery Management Council, 4055 Faber Place Drive, Suite 201, North Charleston, SC 29405, or via e-mail to: SGRegAmend9PH@safmc.net for Regulatory Amendment 9 to the Snapper Grouper FMP; CompACLAmendPH@safmc.net for the Comprehensive ACL Amendment; CEBA2PH@safmc.net for Comprehensive Ecosystem-Based Amendment 2; SGAmend21Scoping@safmc.net for Amendment 21 to the Snapper Grouper FMP; SGAmend22Scoping@safmc.net for Amendment 22 to the Snapper Grouper FMP; SGAmend24Scoping@safmc.net for Amendment 24 to the Snapper Grouper FMP; and GCAmend5Scoping@safmc.net for Amendment 5 to the Golden Crab FMP.

FOR FURTHER INFORMATION CONTACT: Iverson, South Atlantic Fishery Management Council, 4055 Faber Place Drive, Suite 201, North Charleston, SC 29405; telephone: (843) 571-4366; fax: (843) 769-4520; e-mail address: kim.iverson@safmc.net.

SUPPLEMENTARY INFORMATION: As part of the meeting schedule, public hearings will be held on Regulatory Amendment 9 to the Snapper Grouper FMP. The regulatory amendment includes alternatives for commercial trip limits for greater amberjack, vermilion snapper, black sea bass and gag. The amendment also includes management options for split season quotas and spawning season closures for black sea bass. A public hearing will also be held on the Comprehensive ACL Amendment. The amendment establishes ACLs and Accountability Measures for species managed by the Council that are not currently listed as undergoing overfishing as required by the Magnuson-Stevens Fishery Conservation and Management Act (Magnuson-Stevens Act). This includes species in the Snapper Grouper management complex as well as dolphin, wahoo, and golden crab. Public hearings will also be conducted for the Comprehensive Ecosystem-Based 2 that includes regulatory actions relative to the management of octocorals, and non-regulatory actions that update existing Essential Fish Habitat (EFH) information. The amendment also addresses modifying the management of South Carolina's Special Management Zones (SMZs), amending the sea turtle release gear requirements for the snapper grouper fishery, and designating new EFH and Habitat Areas of Particular Concern (HAPC) areas for snapper grouper species, coral, and sargassum.

The public scoping meetings will address overlapping fisheries issues for the South Atlantic region. Items under consideration for public scoping include Amendment 21 to the Snapper Grouper FMP. This amendment addresses the possible use of catch share programs for snapper grouper species currently under management through quotas (except for snowy grouper), effort and participation reduction, and endorsement actions. The amendment will include options for the use of Individual Transferable Quotas (ITQs), cooperatives, regional and state by state quota analysis, and other components.

The Council will also hold scoping meetings on Amendment 22 to the Snapper Grouper FMP addressing options for long-term management measures for red snapper as the stock begins to rebuild; Amendment 24 to the Snapper Grouper FMP to end overfishing and rebuild the red grouper stock, according the mandates of the Magnuson-Stevens Act; and Amendment 5 to the Golden Crab FMP with options to implement catch shares for the commercial golden crab fishery in the South Atlantic Region.

Public Hearing and Scoping Meeting Schedule

1. January 24, 2011—Hilton New Bern/Riverfront, 100 Middle Street, New Bern, NC 28560, telephone: 1-252-638-3585;

2. January 26, 2011—Crowne Plaza Charleston Airport, 4831 Tanger Outlet Boulevard, North Charleston, SC 29418, telephone: 843-744-4422;

3. January 27, 2011—Mighty Eighth Air Force Museum, 175 Bourne Avenue, Pooler, GA 31322, telephone: 912-748-8888;

4. January 31, 2011—Jacksonville Marriott Hotel, 4670 Salisbury Road, Jacksonville, FL 32256, telephone: 904-296-2222;

5. February 1, 2011—International Palms Resort, 1300 N. Atlantic Avenue, Cocoa Beach, FL 32931, telephone: 321-783-2271;

6. February 3, 2011—Key Largo Grande Resort, 97000 Overseas Highway, Key Largo, FL 33037, telephone: 305-852-5553.

Written comments will be received from January 12, 2011 until 5 p.m. on February 14, 2011.

Copies of the public hearing and scoping documents are available by contacting Kim Iverson, Public Information Officer, South Atlantic Fishery Management Council, 4055 Faber Place Drive, Suite 201, North Charleston, SC 29405; telephone: (843) 571-4366 or toll free at (866) SAFMC-10. Copies will also be available online at http://www.safmc.net as they become available.

Special Accommodations

These meetings are physically accessible to people with disabilities. Requests for sign language interpretation or other auxiliary aids should be directed to the Council office (see ADDRESSES) 3 days prior to the start of each meeting.

Dated: December 17, 2010.
Tracey L. Thompson,
Acting Director, Office of Sustainable Fisheries, National Marine Fisheries Service.

[FR Doc. 2010-32217 Filed 12-22-10; 8:45 am]

BILLING CODE 3510-22-P